DEPARTMENT OF AGRICULTURE

Forest Service

Southwest Washington Province Advisory Committee Meeting Notice

AGENCY: Forest Service, USDA.

ACTION: Notice of meeting.

SUMMARY: The Southwest Washington Province Advisory Committee will meet on Thursday, January 27, 2005, at the Gifford Pinchot National Forest Headquarters, 10600 NE 51st Circle, Vancouver, WA 98682. The meeting will begin at 9:30 a.m. and continue until 3:30 p.m.

The purpose of the meeting is to share information on the following programs: The status and plans for Forest bridges; effects to the Forest of recent and planned Federal Energy Regulatory Commission dam re-licensing actions; Forest monitoring activities; the proposed expansion of the White Pass Ski Area, and to share information among members.

All Southwest Washington Province Advisory Committee meetings are open to the public. Interested citizens are encouraged to attend. The “open forum” provides an opportunity for the public to bring issues, concerns, and discussion topics to the Advisory Committee. The “open forum” is scheduled for 1:30 p.m. Interested speakers will need to register prior to the open forum period. The committee welcomes the public's written comments on Committee business at any time.

FOR FURTHER INFORMATION CONTACT: Tom Knappenbeger, Public Affairs Officer, at (360) 891-5005, or write Forest Headquarters Office, Gifford Pinchot National Forest, 10600 NE. 51st Circle, Vancouver, WA 98682.

Dated: December 27, 2004.
Lynn Burditt,
Deputy Forest Supervisor.

[FR Doc. 04-28710 Filed 12-30-04; 8:45 am]

BILLING CODE 3410-11-M